DEPARTMENT OF HEALTH AND HUMAN SERVICES

Health Resources and Services Administration

Agency Information Collection Activities: Proposed Collection: Comment Request

In compliance with the requirement for opportunity for public comment on proposed data collection projects (Paperwork Reduction Act of 1995, as amended, 44 U.S.C. chapter 35), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Telephone Survey of Public Opinion Regarding Various Issues Related to Organ and Tissue Donation—[New]

The Division of Transplantation (DoT), Healthcare Systems Bureau, Health Resources and Services Administration (HRSA), is planning to conduct a telephone survey of public knowledge, perceptions, opinion, and behaviors related to organ donation. Two key missions of the DoT are (1) to provide oversight for the Organ Procurement and Transplantation Network and policy development related to organ donation and transplantation and (2) to implement efforts to increase public knowledge, attitudes, and behaviors related to organ donation.

With a constantly growing deficit between the number of Americans needing donor organs (currently nearly 110,000) and the annual number of donors (14,632 in 2009), increasing the American public's willingness to donate becomes increasingly critical. Effective education and outreach campaigns need to be based on knowledge of the public's attitudes and perceptions about, and perceived impediments to, organ donation. Two national surveys using nearly identical survey instruments to identify public views and behaviors related to organ donation were conducted in 1993 and 2005.

The proposed study will identify current organ donation views and practices of the American public and various population subgroups using a survey instrument similar to the two earlier studies in order to track changes over time. It will measure issues such as level of public knowledge about donation, public intent to donate, impediments to public intent to donate, as well as attitudes about living donation, presumed consent, and financial incentives for donation. Demographic information also will be collected. The randomly drawn sample will consist of 3,000 adults (age 18 and over), including an oversample of Asians, Hispanics, African Americans, and Native Americans, and will be geographically representative of the United States. The survey instrument will be administered in English and Spanish languages through computer-assisted telephone interviews.

In addition to being useful to the DoT, especially in its donation outreach initiatives, results of this survey also will be of assistance to the transplant community, DoT grantees and other research efforts, and to the Secretary's Advisory Committee on Organ Transplantation (ACOT) as it fulfills its charge to advise the Secretary of Health and Human Services on the numerous and often controversial issues related to donation and transplantation. In its first meeting, the ACOT suggested such a survey to gather information to inform both public education efforts and policy decisions on the issue of organ donation.

The annual estimate of burden is as follows:

Instrument | Number of respondents | Responses per respondent | Total responses | Hours per response | Total burden hours
Telephone survey | 3,000 | 1 | 3,000 | 0.3 | 900
Total | 3,000 | 1 | 3,000 | 0.3 | 900

E-mail comments to paperwork@hrsa.gov or mail the HRSA Reports Clearance Officer, Room 10-33, Parklawn Building, 5600 Fishers Lane, Rockville, MD 20857. Written comments should be received within 60 days of this notice.

Dated: January 3, 2011.
Robert Hendricks,
Director, Division of Policy and Information Coordination.

[FR Doc. 2011-100 Filed 1-6-11; 8:45 am]

BILLING CODE 4165-15-P